DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: June 16, 2015.
Roy E. Wright,
Deputy Associate Administrator for Insurance and Mitigation, Department of Homeland Security, Federal Emergency Management Agency.

State and county | Location and case No. | Chief executive officer of community | Community map repository | Effective date of modification | Community No.
Alabama:
Montgomery (FEMA Docket No.: B-1468) | City of Montgomery (15-04-0121P) | The Honorable Todd Strange, Mayor, City of Montgomery, P.O. Box 1111, Montgomery, AL 36104 | City Hall, 103 North Perry Street, Montgomery, AL 36104 | April 6, 2015 | 010174
Shelby (FEMA Docket No.: B-1468) | City of Pelham (14-04-9726P) | The Honorable Gary Waters, Mayor, City of Pelham, 3162 Pelham Parkway, Pelham, AL 35124 | City Hall, 3162 Pelham Parkway, Pelham, AL 35124 | April 9, 2015 | 010193
California:
Colusa (FEMA Docket No.: B-1468) | Unincorporated areas of Colusa County (14-09-4391P) | The Honorable Kimberly Dolbow Vann, Chair, Colusa County Board of Supervisors, 546 Jay Street, Colusa, CA 95932 | Colusa County Department of Public Works, 1215 Market Street, Colusa, CA 95932 | April 9, 2015 | 060022
Sacramento (FEMA Docket No.: B-1468) | Unincorporated areas of Sacramento County (14-09-1646P) | The Honorable Jimmie R. Yee, Chairman, Sacramento County Board of Supervisors, 700 H Street, Suite 2450, Sacramento, CA 95814 | Sacramento County Department of Water Resources, 827 7th Street, Suite 301, Sacramento, CA 95814 | April 2, 2015 | 060262
Santa Clara (FEMA Docket No.: B-1468) | Town of Los Altos Hills (15-09-0041P) | The Honorable John Radford, Mayor, Town of Los Altos Hills, 26379 Fremont Road, Los Altos Hills, CA 94022 | Public Works Department, 26379 Fremont Road, Los Altos Hills, CA 94022 | April 2, 2015 | 060342
Florida:
Charlotte (FEMA Docket No.: B-1468) | Unincorporated areas of Charlotte County (14-04-A501P) | The Honorable Ken Doherty, Chairman, Charlotte County Board of Commissioners, 18500 Murdock Circle, Suite 536, Port Charlotte, FL 33948 | Charlotte County Community Development Department, 18500 Murdock Circle, Port Charlotte, FL 33948 | April 13, 2015 | 120061
Miami-Dade (FEMA Docket No.: B-1468) | City of Sunny Isles Beach (14-04-A336P) | The Honorable Norman S. Edelcup, Mayor, City of Sunny Isles Beach, 18070 Collins Avenue, Sunny Isles Beach, FL 33160 | City Hall, 18070 Collins Avenue, Sunny Isles Beach, FL 33160 | April 13, 2015 | 120688
Sarasota (FEMA Docket No.: B-1468) | Unincorporated areas of Sarasota County (14-04-7975P) | The Honorable Charles D. Hines, Chairman, Sarasota County Board of Commissioners, 1660 Ringling Boulevard, Sarasota, FL 34236 | Sarasota County Zoning Administration Center, 400 South Tamiami Trail, Venice, FL 34293 | April 6, 2015 | 125144
Georgia: Columbia (FEMA Docket No.: B-1468) | Unincorporated areas of Columbia County (14-04-A219P) | The Honorable Ron C. Cross, Chairman, Columbia County Board of Commissioners, P.O. Box 498, Evans, GA 30809 | Columbia County Stormwater Utility Department, 630 Ronald Reagan Drive, Building B, 2nd Floor, Evans, GA 30809 | April 9, 2015 | 130059
New Jersey: Somerset (FEMA Docket No.: B-1468) | Township of Bridgewater (14-02-2373P) | The Honorable Daniel J. Hayes, Mayor, Township of Bridgewater, 100 Commons Way, Bridgewater, NJ 08807 | Department of Code Enforcement, 700 Garretson Road, Bridgewater, NJ 08807 | April 9, 2015 | 340432
North Carolina:
Henderson (FEMA Docket No.: B-1474) | City of Hendersonville (14-04-A582P) | The Honorable Barbara Volk, Mayor, City of Hendersonville, 145 5th Avenue East, Hendersonville, NC 28792 | Zoning Department, 100 North King Street, Hendersonville, NC 28792 | April 22, 2015 | 370128
Transylvania (FEMA Docket No.: B-1474) | City of Brevard (14-04-A625P) | The Honorable Jimmy Harris, Mayor, City of Brevard, 95 West Main Street, Brevard, NC 28712 | Planning Department, 95 West Main Street, Brevard, NC 28712 | April 7, 2015 | 370231
Union (FEMA Docket No.: B-1468) | Town of Indian Trail (14-04-A516P) | The Honorable Michael Alvarez, Mayor, Town of Indian Trail, P.O. Box 2430, Indian Trail, NC 28079 | Engineering Department, 130 Blythe Drive, Indian Trail, NC 28079 | Mar. 30, 2015 | 370235
Union (FEMA Docket No.: B-1468) | Unincorporated Areas of Union County (14-04-A516P) | The Honorable Richard Helms, Chairman, Union County Board of Commissioners, 500 North Main Street, Room 921, Monroe, NC 28112 | Union County Planning Department, 500 North Main Street, Monroe, NC 28112 | Mar. 30, 2015 | 370234
South Carolina: Beaufort (FEMA Docket No.: B-1468) | Town of Bluffton (14-04-5124P) | The Honorable Lisa Sulka, Mayor, Town of Bluffton, 20 Bridge Street, Bluffton, SC 29910 | Growth Management Customer Service Center, 20 Bridge Street, Bluffton, SC 29910 | April 13, 2015 | 450251

[FR Doc. 2015-15807 Filed 6-26-15; 8:45 am]

BILLING CODE 9110-12-P